DEPARTMENT OF COMMERCE

National Oceanic and Atmospheric Administration

RIN 0648-XF928

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Ad Hoc Red Snapper Private Angler Advisory Panel.

DATES: The meeting will convene on Thursday, January 18, 2018, from 8:30 a.m. to 5 p.m. EDT.

ADDRESSES: The meeting will take place at the Gulf Council office.

Council address: Gulf of Mexico Fishery Management Council, 2203 N. Lois Avenue, Suite 1100, Tampa, FL 33607; telephone: (813) 348-1630.

FOR FURTHER INFORMATION CONTACT: Dr. John Froeschke, Fishery Biologist—Statistician, Gulf of Mexico Fishery Management Council; john.froeschke@gulfcouncil.org, telephone: (813) 348-1630.

SUPPLEMENTARY INFORMATION:

Thursday, January 18, 2018; 8:30 a.m.-5 p.m., EDT

Charge Ad Hoc Red Snapper Private Angler AP: To provide recommendations to the Council on private recreational red snapper management measures which would (1) provide more quality access to the resource in federal waters, (2) reduce discards, and (3) improve fisheries data collection.

I. Agenda and Introduction

II. Approval of the Minutes from May 8-9, 2017 meeting

III. Presentation: Summary Overview of Requested Items from Last Meeting

IV. Discussion: Historical Perspectives of Red Snapper Management

V. Presentation: Red Snapper Stock Assessment Process

VI. Review of Red Snapper State Management

a. Presentation: Summary of Red Snapper Amendments Considering State Management for the Recreational Red Snapper Component

b. Red Snapper State Management Decision Support Tool

c. Panel Feedback and Recommendations

VII. Panel Discussion and Recommendations to Improve Access for Recreational Anglers in the Red Snapper Recreational Component

VIII. Other Business

—Meeting Adjourns—

You may register for Ad Hoc Red Snapper Private Angler Advisory Panel meeting on January 18, 2018 at: https://attendee.gotowebinar.com/register/7701195332573365763.

The Agenda is subject to change, and the latest version along with other meeting materials will be posted on the Council's file server. To access the file server, the URL is https://public.gulfcouncil.org:5001/webman/index.cgi, or go to the Council's website and click on the FTP link in the lower left of the Council website (http://www.gulfcouncil.org). The username and password are both “gulfguest”. Click on the “Library Folder”, then scroll down to “AP Meeting_Ad Hoc Red Snapper Private Angler-2018-01”.

The meeting will be webcast over the internet. A link to the webcast will be available on the Council's website, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: December 27, 2017.
Tracey L. Thompson,
Acting Deputy Director, Office of Sustainable Fisheries, National Marine Fisheries Service.

[FR Doc. 2017-28286 Filed 12-29-17; 8:45 am]

BILLING CODE 3510-22-P